DEPARTMENT OF HOUSING AND URBAN DEVELOPMENT

[Docket No. FR-5415-N-13]

Notice of Availability: Notice of Funding Availability (NOFA) for HUD's Fiscal Year (FY) 2010 Lead Technical Studies and Healthy Homes Technical Studies Programs

AGENCY: Office of the Chief of the Human Capital Officer, HUD.

ACTION: Notice.

SUMMARY: HUD announces the availability on its Web site of the applicant information, submission deadlines, funding criteria, and other requirements for the FY2010 Lead Technical Studies and Healthy Homes Technical Studies Programs. Approximately $7 million is made available through this NOFA, by the Consolidated Appropriations Act, 2010 (Pub. L. 111-117, approved December 16, 2009). Of this amount, approximately $1 million is for Lead Technical Studies and approximately $6 million is for Healthy Homes Technical Studies. The overall goal of both the Lead and the Healthy Homes Technical Studies programs is to gain knowledge to improve the efficacy and cost-effectiveness of methods for evaluation and control of lead-based paint and other housing related health and safety hazards.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for the Lead Technical Studies Grant Program is 14.902. The CFDA number for the Healthy Homes Technical Studies Grant Program is 14.906. Applications must be submitted electronically through Grants.gov.

FOR FURTHER INFORMATION CONTACT: For information concerning the Lead Technical Studies and Healthy Homes Technical Studies Programs, you may contact Dr. Peter Ashley, Office of Healthy Homes and Lead Hazard Control, Department of Housing and Urban Development; 451 Seventh Street, SW., Room 8236, Washington, DC 20410-3000; at 202-402-7595 or via e-mail at Peter.J.Ashley@hud.gov. Persons with speech or hearing impairments may access this telephone number via TTY by calling the toll-free Federal Relay Service during working hours at 800-877-8339.

Dated: September 27, 2010.
Barbara S. Dorf,
Director, Office of Departmental Grants Management and Oversight, Office of the Chief of the Human Capital Officer.

[FR Doc. 2010-24750 Filed 10-1-10; 8:45 am]

BILLING CODE 4210-67-P